DEPARTMENT OF AGRICULTURE

Forest Service

Pacific Northwest Region Invasive Plant Project; Colville, Okanogan, Wenatchee, Mt. Baker-Snoqualmie, Olympic and Gifford Pinchot National Forests in Washington, and Columbia River Gorge National Scenic Area, Malheur, Fremont, Deschutes, Ochoco, Rogue River, Siskiyou, Mt. Hood, Siuslaw, Umpqua, Umatilla, Willamette, Wallowa-Whitman, and Winema National Forests in Oregon

AGENCY: Forest Service, USDA.

ACTION: Notice of intent to prepare an environmental impact statement.

SUMMARY: The USDA Forest Service will prepare an environmental impact statement (EIS) to amend Forest Plan direction to enhance our ability to protect native ecosystems from invasive, non-native plants. This action will build on the Region's existing program by improving our ability to prevent the introduction of invasive plant species, improve detection and rapid response to new infestations, and control of existing populations.

DATES: Comments concerning the scope of this analysis should be received no later than September 30, 2002.

ADDRESSES: Submit written comments to Natural Resource Staff; Invasive Plant Team, Forest Health Protection Group; Pacific Northwest Regional Office, P.O. Box 3623, Portland, OR 97208-3623.

FOR FURTHER INFORMATION CONTACT: Eugene Skrine, Team Leader, Invasive Plant Project, Pacific Northwest Regional Office, PO Box 3623, Portland, OR 97208-3623 or by calling (503) 326-4310.

SUPPLEMENTARY INFORMATION:

Need for the Proposal

Approximately 400,000 acres of National Forests and Grasslands are reported to be degraded in the Pacific Northwest Region by infestations of invasive, non-native plants. This infestation has a high potential to expand and further degrade forest and grasslands. Invasive plants spread across landscapes, unimpeded by ownership boundaries. Infested areas represent potential seed sources for continuation of the invasion on neighboring lands. Infestations can be eliminated, controlled or exacerbated through utilization of specific management practices. Invasive species create a host of environmental and other effects, most of which are harmful to native ecosystem biodiversity and processes, including:

• Displacement of native plants.

• Reduction in functionality of habitat and forage for wildlife and livestock.

• Threats to populations of threatened, endangered and sensitive species.

• Alteration of physical and biological properties of soil, including productivity.

• Changes to the intensity and frequency of fires.

• High monetary cost of controlling/managing invasive plants.

• Loss of recreational opportunities.

Current regional management direction addressing invasive plant prevention, early detection, treatment, inventory and monitoring, and subsequent site restoration needs to be expanded and clarified. There is a critical need for the development of clear, and comprehensive Forest Plan standards and guidelines that allow more timely and more effective management and prevention practices for projects and programs in the Pacific Northwest Region.

Executive Order 13112 Invasive Species (Feb. 1999) provides direction that Federal agencies shall: (1) Prevent the introduction of invasive species; (2) detect and respond rapidly to and control populations of such species in a cost-effective and environmentally sound manner; (3) monitor invasive species populations accurately and reliably; (4) provide for restoration of native species and habitat conditions in ecosystems that have been invaded. This EIS and subsequent site-specific NEPA analysis will implement this Executive Order.

The 1988 Vegetation Management EIS and Record of Decision (ROD), and the 1989 Mediated Agreement focused on competing vegetation in forest plantations. The ROD identifies prevention as the preferred strategy for vegetation management, and provides direction for analyzing prevention strategies for projects. However, neither the ROD, nor the Mediated Agreement, thoroughly addressed the numerous issues specific to preventing and treating invasive plants, nor do they identify standards or practices that could be applied to prevent invasive plants from becoming established.

The 1988 Record of Decision (ROD) specified and specifically limited the type and range of tools available for the treatment of competing and unwanted vegetation. Neither the ROD nor the Mediated Agreement provides a mechanism for adapting its requirements and adopting new technologies. The use of biological agents and prescribed fire as control mechanisms were not fully examined. Herbicides approved for use in the ROD were developed before 1980. Today, new herbicides are available that appear to be more effective on target plants, and potentially less hazardous to humans and wildlife.

Given the seriousness of the current invasive species situation, National Forest managers need more operational flexibility with reduced process, greater cost-effectiveness and timely responsiveness, without increasing environmental risks. A new roadmap for prevention and site restoration, as well as a new and expanded toolbox, including; biological, fire, mechanical, manual, cultural, and chemical tools, are critical to successfully managing our invasive plant problem. New Forest Plan standards and guidelines will significantly enhance our ability to deal effectively with this threat to the integrity and productivity of the National Forests in the Pacific Northwest Region.

Proposed Action

The USDA Forrest Service, Pacific Northwest Region, proposes to amend Forest Plan direction to enhance our ability to protect native ecosystems from invasive, non-native plants. This action will build on the Region's existing program by improving our ability to prevent the introduction of invasive plant species, improved detection and rapid response to new infestations, and control of existing populations in a cost-effective and environmentally sound manner. In addition, this action will provide for restoration of native species and habitat in ecosystems that have been invaded. The proposed action would result in amendments to existing National Forest Land and Resource Management Plans, which earlier incorporated decisions made through the 1988 Record of Decision/FEIS for Managing Competing and Unwanted Vegetation, and the 1989 Mediated Agreement. This action would replace the portions of the Record of Decision and Mediated Agreement that addresses invasive species.

Proposed Scoping

Public participation is an important part of the analysis. The Forest Service is seeking information, comments, and assistance from Federal, State and local agencies, tribes, and other individuals or organizations who may be interested in or affected by the proposed action. Comments submitted during the scoping process should be in writing. They should be specific to the action being proposed and should describe as clearly and completely as possible any issues the commentor has with the proposal. This input will be used in preparation of the draft EIS.

In addition to this scoping, the public may visit Forest Service officials at any time during the analysis and prior to the decision. To facilitate public participation additional scoping opportunities will include: a scoping letter, public meetings (dates and locations yet to be determined), newsletters, and a Web site with address (http://www.fs.fed.us/r6/invasiveplant-eis).

Preliminary Issues Identified to Date

Preliminary issues that have been identified are:

• Invasive plant infestations are expanding and threatening the health and stability of native plant communities and ecosystems.

• The application of herbicides, as one potential treatment method, may pose risks to human health and the environment, including soil, water, native plants, fish, and wildlife resources.

Alternatives Considered

The No Action alternative will serve as a baseline for comparison of alternatives. This alternative will be no change from current management of the Forests and will be fully developed and analyzed. The proposed action, as described above will be considered as an alternative. Additional alternatives may be developed around the proposed action to address issues identified in the scoping and public involvement process.

Estimated Dates for Draft and Final EIS

The draft EIS is expected to be filed with the Environmental Protection Agency (EPA) and to be available for public comment by July 2003. The comment period on the draft EIS will be 45 days from the date the EPA publishes the notice of availability in the Federal Register.

The Forest Service believes, at this early stage, it is important to give reviewers notice of several court rulings related to public participation in the environmental review process. First, reviewers of the draft EIS must structure their participation in the environmental review of the proposal so that it is meaningful and alerts an agency to the reviewer's position and contentions. Vermont Yankee Nuclear Power Corp. v. NRDC. 435 U.S. 519.553 (1978). Also, environmental objectives that could be raised at the draft EIS stage but that are not raised until after the completion of the final EIS may be waived or dismissed by the courts. City of Angoon v. Hodel, 803 F. 2d 1016, 1022 (9th Cir. 1986) and Wisconsin Heritage, Inc. v. Harris, 490 F. Supp. 1334 (E.D. Wis. 1980). Because of these court rulings, it is very important that those interested in this proposed action participate by the close of the 45-day comment period; so that substantive comments and objections are made available to the Forest Service at a time when it can meaningfully consider them and respond to them in the final EIS.

To assist the Forest Service in identifying and considering issues and concerns on the proposed action, comments on the draft EIS should be as specific as possible. It is also helpful if the comments refer to specific pages or chapters of the draft statement. Comments may also address the adequacy of the draft EIS or the merits of the alternatives formulated and discussed in the statement. Reviewers may wish to refer to the Council on Environmental Quality Regulations for implementing the procedural provision of the National Environmental Policy Act (40 CFR 1503.3) in addressing these points.

Comments received in response to this solicitation, including names and addresses of those who comment, will be considered part of the public record on this proposed action and will be available for public inspection. Comments submitted anonymously will be accepted and considered; however, those who submit anonymous comments may not have standing to appeal the subsequent decision under 36 CFR part 215. Additionally, pursuant to 7 CFR 1.27(d), any person may request the agency to withhold a submission from the public record by showing how the Freedom of Information Act (FOIA) permits such confidentiality. Persons requesting such confidentiality should be aware that, under the FOIA, confidentiality may be granted in only very limited circumstances, such as to protect trade secrets. The Forest Service will inform the requester of the agency's decision regarding the request for confidentiality, and where the request is denied, the agency will return the submission and notify the requester that the comments may be resubmitted with or without name and address within a specified number of days.

Comments on the draft EIS will be analyzed, considered, and responded to by the Forest Service in preparing the final EIS. The final EIS is scheduled to be completed in December 2003. The Regional Forester for the Pacific Northwest Region is the responsible official and as such will consider comments, responses, environmental consequences discussed in the final EIS, and applicable laws, regulations, and policies in making a decision regarding this proposed action. The responsible official will document the decision and rationale for the decision in the Record of Decision. It will be subject to Forest Service Appeal Regulations (36 CFR part 215).

Dated: August 21, 2002.
Richard W. Sowa,
Acting Deputy Regional Forester.

[FR Doc. 02-21882 Filed 8-27-02; 8:45 am]

BILLING CODE 3410-11-M